DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding this information collection received by February 26, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Research Service

Title: Patent License Application.

OMB Control Number: 0518-0003.

Summary of Collection: Public Law 96-517, HR 209 (Technology Transfer Commercialization Act of 2000), and 37 CFR part 404 requires Federal agencies to use the patent system to promote the utilization of inventions arising from federally supported research and provide the authority to grant patent licenses. 37 CFR 404.8 specifies the information which must be submitted by a patent license applicant to the Federal agency having custody of a patent. Form ADS-761 collects the information specified under 37 CFR 404.8.

Need and Use of the Information: The Agricultural Research Service (ARS) will collect identifying information on the applicant, identifying information for the business, and a detailed description for development and/or marketing of the invention using form AD-761. The collected information is used by the Office of Technology Transfer (OTT) to evaluate a patent license applicant's ability to bring an invention to practical application, as defined in 37 CFR 404.3. The information collected is used to determine whether the applicant has both a complete and sufficient plan for developing and marketing the invention and the necessary manufacturing, marketing, technical, and financial resources to carry out the submitted plan.

Description of Respondents: Business or other for profit; Not-for-profit institutions; Individuals or households.

Number of Respondents: 75.

Frequency of Responses: Reporting: On occasion.

Total Burden Hours: 225.

Agricultural Research Service

Title: Information Collection for Document Delivery Services.

OMB Control Number: 0518-0027.

Summary of Collection: The National Agricultural Library (NAL) accepts requests from libraries and other organizations in accordance with the national and international interlibrary loan code and guidelines. In its national role, NAL collects, and supplies copies or loans of agricultural materials not found elsewhere. 7 U.S.C. 3125a and 7 CFR 505 gives NAL the authority to collect this information. NAL provides photocopies and loans of materials directly to USDA staff, other Federal agencies, libraries, and other institutions, and indirectly to the public through their libraries. The Library charges for some of these activities through a fee schedule. To fill a request for reproduction or loan of items the library must have the name, mailing address, phone number of the respondent initiating the request, and may require an email address. The respondent must also provide a brief statement acknowledging copyright compliance, required by Title 17 of the United States Code. The collected information is used to deliver the material to the respondent, monitor the return to NAL of loaned material, and identify and locate the requested material in NAL collections.

Need and Use of the Information: This information collection is used by NAL document delivery staff to identify the protocol for processing the request. The information collected is used by staff to process/package the reproduction or loan for delivery. The collected information may also be used for any additional follow-up or clarification in replying to a request. Collected information for copy requests is entered into a delivery system used to automate the delivery of material to the respondent. The copyright compliance statement is used for assurance of compliance with the copyright laws and is retained in the library for three years as required by the above copyright law. All collected information is confidential and only used by staff that need to process the request. Information stored in databases is maintained on NAL's secure network and may be password protected. Additionally, databases are routinely updated to maintain only needed records/information.

Description of Respondents: Federal Government; Not-for-profit institutions; State, Local or Tribal Government; Business or other for-profit.

Number of Respondents: 196.

Frequency of Responses: Reporting: On occasion.

Total Burden Hours: 28.

Levi S. Harrell,
Departmental Information Collection Clearance Officer.

[FR Doc. 2025-01742 Filed 1-24-25; 8:45 am]

BILLING CODE 3410-03-P